OFFICE OF PERSONNEL MANAGEMENT

5 CFR Part 532

RIN 3206-AM37

Prevailing Rate Systems; Redefinition of the Northern Mississippi and Memphis, TN, Appropriated Fund Federal Wage System Wage Areas

AGENCY: U.S. Office of Personnel Management.

ACTION: Final rule.

SUMMARY: The U.S. Office of Personnel Management is issuing a final rule to redefine the geographic boundaries of the Northern Mississippi and Memphis, Tennessee, appropriated fund Federal Wage System (FWS) wage areas. The final rule redefines Panola County, MS, from the Northern Mississippi wage area to the Memphis wage area. This change is based on a consensus recommendation of the Federal Prevailing Rate Advisory Committee (FPRAC) to best match Panola County to a nearby FWS survey area. FPRAC did not recommend other changes for the Northern Mississippi and Memphis FWS wage areas at this time.

DATES: This regulation is effective on December 14, 2011.

FOR FURTHER INFORMATION CONTACT: Madeline Gonzalez, (202) 606-2838; email pay-leave-policy@opm.gov; or FAX: (202) 606-4264.

SUPPLEMENTARY INFORMATION: On June 2, 2011, the U.S. Office of Personnel Management (OPM) issued a proposed rule (76 FR 31885) to redefine Panola County, MS, from the Northern Mississippi wage area to the Memphis, TN, wage area. The proposed rule had a 30-day comment period during which OPM received no comments.

The Federal Prevailing Rate Advisory Committee (FPRAC), the national labor-management committee responsible for advising OPM on matters concerning the pay of FWS employees, recommended this change by consensus. FPRAC recommended no other changes in the geographic definitions of the Northern Mississippi and Memphis wage areas.

CFR Correction

In addition, this final rule corrects the name of the Southern Colorado wage area in Appendix C to subpart B of part 532—Appropriated Fund Wage and Survey Areas, which was incorrectly entered as Southwestern Colorado in a final rule issued on July 22, 2011 (76 FR 43803).

Regulatory Flexibility Act

I certify that these regulations will not have a significant economic impact on a substantial number of small entities because they will affect only Federal agencies and employees.

List of Subjects in 5 CFR Part 532

Administrative practice and procedure, Freedom of information, Government employees, Reporting and recordkeeping requirements, Wages.

U.S. Office of Personnel Management.
John Berry,
Director.

Accordingly, the U.S. Office of Personnel Management amends 5 CFR part 532 as follows:

PART 532—PREVAILING RATE SYSTEMS

1. The authority citation for part 532 continues to read as follows:

Authority: 5 U.S.C. 5343, 5346; § 532.707 also issued under 5 U.S.C. 552.

Appendix C to Subpart B of Part 532—Appropriated Fund Wage and Survey Areas

2. Appendix C to subpart B is amended as follows:

a. By removing, under the State of Colorado, “Southwestern Colorado” and adding in its place “Southern Colorado.”

b. By revising the wage area listings for the Northern Mississippi and Memphis, TN, wage areas to read as follows:

* * * * *
MISSISSIPPI
* * * * *
Northern Mississippi
Survey Area
Mississippi:
Clay
Grenada
Lee
Leflore
Lowndes
Monroe
Oktibbeha
Area of Application. Survey area plus:
Mississippi:
Alcorn
Bolivar
Calhoun
Carroll
Chickasaw
Choctaw
Coahoma
Itawamba
Lafayette (Does not include the Holly Springs National Forest portion)
Montgomery
Noxubee
Pontotoc (Does not include the Holly Springs National Forest portion)
Prentiss
Quitman
Sunflower
Tallahatchie
Tishomingo
Union (Does not include the Holly Springs National Forest portion)
Washington
Webster
Winston
Yalobusha
* * * * *
TENNESSEE
* * * *
Memphis
Survey Area
Arkansas:
Crittenden
Mississippi
Mississippi:
De Soto
Tennessee:
Shelby
Tipton
Area of Application. Survey area plus:
Arkansas:
Craighead
Cross
Lee
Poinsett
St. Francis
Mississippi:
Benton
Lafayette (Holly Springs National Forest portion only)
Marshall
Panola
Pontotoc (Holly Springs National Forest portion only)
Tate
Tippah
Tunica
Union (Holly Springs National Forest portion only)
Missouri:
Dunklin
Pemiscot
Tennessee:
Carroll
Chester
Crockett
Dyer
Fayette
Gibson
Hardeman
Hardin
Haywood
Lake
Lauderdale
Madison
McNairy
Obion
* * * * *

[FR Doc. 2011-29277 Filed 11-10-11; 8:45 am]

BILLING CODE 6325-39-P